OFFICE OF GOVERNMENT ETHICS

Solicitation of Input From Stakeholders Regarding the U.S. Office of Government Ethics Strategic Plan (FY 2018-2022)

AGENCY: Office of Government Ethics (OGE).

ACTION: Notice of request for public comment.

SUMMARY: The U.S. Office of Government Ethics (OGE) is providing notice of request for public comment on its draft Strategic Plan (Plan). The Plan describes OGE's priorities for the next five years. OGE will consider all comments received by the deadline. You may access the Plan at https://www.oge.gov/web/OGE.nsf/News+Releases/B0EE73EF1ADC7AF38525816F0075CB6F?opendocument, or you may obtain a copy of the plan by sending an email request to OGEStrategicPlan@oge.gov.

DATES: All comments must be received by August 25, 2017.

ADDRESSES: You may submit comments by any of the following methods:

Email: OGEStrategicPlan@oge.gov.

Mail, Hand Delivery/Courier: U.S. Office of Government Ethics, Suite 500, 1201 New York Avenue NW., Washington, DC 20005-3917, Attention: Nicole Stein, OGE Strategic Plan.

Instructions: All submissions must include OGE's agency name and the words “Strategic Plan.” All comments, including attachments and other supporting materials, will become part of the public record and subject to public disclosure. Comments may be posted on OGE's Web site, www.oge.gov. Sensitive personal information, such as account numbers or Social Security numbers, should not be included. Comments generally will not be edited to remove any identifying or contact information.

FOR FURTHER INFORMATION CONTACT: Nicole Stein, Chief, Agency Assistance Branch, U.S. Office of Government Ethics, Suite 500, 1201 New York Avenue NW., Washington, DC 20005-3917; Telephone (202) 482-9255; TTY: 800-877-8339; Email: nicole.stein@oge.gov.

Dated: August 8, 2017.
David J. Apol,
Acting Director, U.S. Office of Government Ethics.

[FR Doc. 2017-17032 Filed 8-11-17; 8:45 am]

BILLING CODE 6345-03-P